DEPARTMENT OF COMMERCE

International Trade Administration

[C-570-984]

Drawn Stainless Steel Sinks From the People's Republic of China: Notice of Rescission of Countervailing Duty Administrative Review, 2016

AGENCY: Enforcement and Compliance, International Trade Administration, Department of Commerce.

SUMMARY: The Department of Commerce (the Department) is rescinding the administrative review of the countervailing duty (CVD) order on drawn stainless steel sinks (sinks) from the People's Republic of China (PRC) for the period January 1, 2016, through December 31, 2016, based on the timely withdrawal of the request for review.

DATES: Applicable August 7, 2017.

FOR FURTHER INFORMATION CONTACT: Andrew Medley, AD/CVD Operations, Office II, Enforcement and Compliance, International Trade Administration, U.S. Department of Commerce, 1401 Constitution Avenue NW., Washington, DC 20230; telephone: (202) 482-4987.

SUPPLEMENTARY INFORMATION:

Background

On April 3, 2017, the Department published in the Federal Register a notice of opportunity to request an administrative review of the CVD order on sinks from the PRC for the period January 1, 2016, through December 31, 2016.¹ On April 28, 2017, the Department received a timely request, in accordance with section 751(a) of the Tariff Act of 1930, as amended (the Act), from Zhongshan Superte Kitchenware Co., Ltd. (Superte), an exporter of subject merchandise, to conduct an administrative review of this CVD order.² Based upon this request, on June 7, 2017, in accordance with section 751(a) of the Act, the Department published in the Federal Register a notice of initiation of administrative review for this CVD order with respect to Superte.³ On June 26, 2017, Superte timely withdrew its request for an administrative review.⁴

¹ See Antidumping or Countervailing Duty Order, Finding, or Suspended Investigation; Opportunity to Request Administrative Review, 82 FR 16163 (April 3, 2017).

² See Superte's April 28, 2017, Request for CVD Administrative Review.

³ See Initiation of Antidumping and Countervailing Duty Administrative Reviews, 82 FR 26444 (June 7, 2017) (Initiation Notice).

⁴ See Superte's June 26, 2017, Withdrawal of Administrative Review Request.

Rescission Review

Pursuant to 19 CFR 351.213(d)(1), the Secretary will rescind an administrative review, in whole or in part, if a party who requested the review withdraws the request within 90 days of the date of publication of the notice of initiation of the requested review. As noted above, Superte withdrew its request for review by the 90-day deadline. No other party requested an administrative review of Superte. Accordingly, we are rescinding the administrative review of the CVD order on sinks from the PRC covering the period January 1, 2016, through December 31, 2016.

Assessment

The Department will instruct Customs and Border Protection (CBP) to assess countervailing duties on all appropriate entries at a rate equal to the cash deposit of estimated countervailing duties required at the time of entry, or withdrawal from warehouse, for consumption, during the period January 1, 2016, through December 31, 2016, in accordance with 19 CFR 351.212(c)(1)(i). The Department intends to issue appropriate assessment instructions directly to CBP 15 days after publication of this notice in the Federal Register.

Notification Regarding Administrative Protective Order

This notice serves as a reminder to parties subject to administrative protective order (APO) of their responsibility concerning the return or destruction of proprietary information disclosed under an APO in accordance with 19 CFR 351.305(a)(3). Timely written notification of the return/destruction of APO materials or conversion to judicial protective order is hereby requested. Failure to comply with the regulations and terms of an APO is a violation which is subject to sanction.

This notice is issued and published in accordance with sections 751 of the Act and 19 CFR 351.213(d)(4).

Dated: August 1, 2017
James Maeder,
Senior Director performing the duties of Deputy Assistant Secretary for Antidumping and Countervailing Duty Operations.

[FR Doc. 2017-16572 Filed 8-4-17; 8:45 am]

BILLING CODE 3510-DS-P